CONSUMER PRODUCT SAFETY COMMISSION

Sunshine Act; Notice of Meeting

TIME AND DATE: Thursday September 22, 2016, 9:30 a.m.-11:30 a.m.

PLACE: Hearing Room 420, Bethesda Towers, 4330 East-West Highway, Bethesda, Maryland.

STATUS: Commission Meeting—Open to the Public.

Matter to be Considered:

Briefing Matter: Fiscal Year 2017 Operating Plan.

A live webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: September 15, 2016.
Todd A. Stevenson,
Secretariat.

[FR Doc. 2016-22653 Filed 9-15-16; 4:15 pm]

BILLING CODE 6355-01-P